DEPARTMENT OF COMMERCE

International Trade Administration

15 CFR Part 336

[Docket Number: 070712324-7325-01]

RIN 0625-AA74

Imports of Certain Cotton Shirting Fabric: Implementation of Tariff Rate Quota Established Under the Tax Relief and Health Care Act of 2006

AGENCY: Department of Commerce, International Trade Administration.

ACTION: Interim final rule, request for comments.

SUMMARY: The Department of Commerce is issuing interim regulations implementing Section 406 of the Tax Relief and Health Care Act of 2006 (“the Act”), which President Bush signed into law on December 20, 2006 (Pub. L. 109-432). Section 406(b)(1) authorizes the Secretary of Commerce to issue licenses to eligible manufacturers under headings 9902.52.08 through 9902.52.19 of the Harmonized Tariff Schedule of the United States, specifying the restrictions under each such license on the quantity of cotton woven fabrics that may be entered each year by or on behalf of the manufacturer.

DATES: This interim final rule is effective July 24, 2007. To be considered, written comments must be received by 5 p.m. on September 24, 2007.

ADDRESSES: Comments should be addressed to: R. Matthew Priest, Deputy Assistant Secretary for Textiles and Apparel, Room 3001, United States Department of Commerce, Washington, DC 20230.

FOR FURTHER INFORMATION CONTACT: Sergio Botero, Office of Textiles and Apparel, U.S. Department of Commerce, (202) 482-4058.

SUPPLEMENTARY INFORMATION:

Background

The Department of Commerce is issuing interim regulations implementing Section 406 of the Tax Relief and Health Care Act of 2006 (“the Act”), which President Bush signed into law on December 20, 2006 (Pub. L. 109-432). Section 406(b)(1) authorizes the Secretary of Commerce to issue licenses to eligible manufacturers under headings 9902.52.08 through 9902.52.19 of the Harmonized Tariff Schedule of the United States, specifying the restrictions under each such license on the quantity of cotton woven fabrics that may be entered each year by or on behalf of the manufacturer.

The Act creates an annual tariff rate quota providing for temporary reductions through December 31, 2009 in the import duties of cotton woven fabrics suitable for making cotton shirts (new Harmonized Tariff Schedule of the United States (HTS) headings 9902.52.08, 9902.52.09, 9902.52.10, 9902.52.11, 9902.52.12, 9902.52.13, 9902.52.14, 9902.52.15, 9902.52.16, 9902.52.17, 9902.52.18, and 9902.52.19). The reduction in duty is limited to 85 percent of the total square meter equivalents of all imported woven fabrics of cotton containing 85 percent or more by weight of cotton used by manufacturers in cutting and sewing men's and boy's cotton shirts in the United States and purchased by such manufacturers during calendar year 2000.

The Act requires that the Secretary of Commerce must issue licenses and ensure that the tariff rate quotas are fairly allocated to eligible manufacturers under such headings 9902.52.08 through 9902.52.19.

The Department, promptly upon promulgation of these interim regulations, intends to begin the process of soliciting applications for a license allocation of the 2007 tariff rate quota. Licenses will be issued to eligible manufacturers within 60 days after the manufacturer files an application with the Department. In subsequent years the Department intends to make its determination regarding allocation of the tariff rate quota no later than December 31 of the year preceding the tariff rate quota year

The tariff rate quota licenses will be issued to eligible manufacturers on the basis of the percentage of each manufacturer's quantity of imported woven fabrics described under HTS headings 9902.52.08 through 9902.52.19 during calendar year 2000, compared to the imports of such fabric by all manufacturers that qualify for a tariff rate quota allocation.

Pursuant to statutory requirements, allocation will be limited to persons (including firms, corporations, or other legal entities) who cut and sew men's and boys' cotton shirts in the United States and who, during calendar year 2000, were manufacturers cutting and sewing men's and boy's cotton shirts in the United States from imported woven fabrics of cotton containing 85 percent or more by weight of cotton of the kind described in HTS headings 9902.52.08 through 9902.52.19 purchased by such manufacturers during calendar year 2000. Any manufacturer who becomes a successor-of-interest to a manufacturer of the cotton woven shirts described in HTS headings 9902.52.08 through 9902.52.19 during 2000 because of a reorganization or otherwise, shall be eligible to apply for a TRQ.

In order to receive a license, eligible manufactures must submit ITA Form ITA-4156P entitled “Affidavit for Application for TRQ License Cotton Shirting Fabric Tariff Rate Quota” containing the following information:

(1) Company name, address, contact telephone number, e-mail address, federal tax identification number, name of person submitting the application, and title, or capacity in which the person is acting for the applicant.

(2) The name and address of each plant and/or contractor location in the United States where men's and boy's cotton shirts of imported woven fabric of the kind described in HTS headings 9902.52.08 through 9902.52.19 was cut and sewn in calendar year 2000.

(3) The date of purchase shall be (a) the invoice date if the manufacturer is not the importer of record; and (b) the date of entry if the manufacturer is the importer of record.

(4) The quantity of imported woven fabrics of cotton containing 85 percent or more by weight of cotton purchased during calendar year 2000 for use in the cutting and sewing of men's and boys' shirts in the United States.

At the conclusion of the application the applicant must attest that “all information contained in the application is complete and correct and no false claims, statements or representations have been made.” Applicants should be aware that, generally, pursuant to 31 U.S.C. 3729 persons providing false or fraudulent claims, and pursuant to 18 U.S.C. 101, persons making materially false statement to representations, are subject to civil or criminal penalties, respectively. All applications must be notarized by a licensed public notary.

Any business confidential information provided pursuant must be marked “business confidential.” Such information will be kept confidential and protected from disclosure to the full extent permitted by law.

The applicant must retain records substantiating the information provided in the application for a period of 3 years. Such records must be made available upon request by an appropriate government official.

Conditions of License Use

The importer of record of fabric entered or withdrawn from warehouse for consumption under a license must be the Licensee or an importer authorized by the Licensee to act on its behalf. A Licensee may only authorize an importer to import fabric under the license on its behalf by making such authorization in writing or by electronic notice to the importer and providing a copy of such authorization to the Department. The authorization must include the unique number of the license, must specify the type of fabric imported by micron count, and must be in the possession of the importer at the time of filing the entry summary or warehouse withdrawal for consumption (Customs Form 7501) or its electronic equivalent. The authorization also must include the unique PIN assigned by the licensee to the importer. A copy of the authorization and PIN assigned to each importer must be provided to the Department by fax (202) 482-0667 or by mail to the Office of Textiles and Apparel, Room 3001, United States Department of Commerce, Washington, DC 20230. This authorization may only be withdrawn by notifying the importer, in writing or by electronic notice, with a copy provided to the Department. The licensee also must advise the Department of each authorized importer's Importer of Record Identification Number.

The licensee should inform its authorized importers that if they enter an amount less than the exact amount requested and authorized by the Import Approval, the importer must annotate the Import Approval form and send a copy to the Department and to the licensee. This annotation will be used to correct the record of use of the license. Failure to provide such information could disrupt the orderly use of the license. Imports in excess of amount of import approval are not authorized.

Classification

Executive Order 12866: This rule has been determined to be not significant under E.O. 12866.

Administrative Procedure Act: The Department of Commerce finds good cause, under 5 U.S.C. 553(b)(B), to waive the requirement to provide prior notice and opportunity for public comment as such requirement is impracticable and contrary to the public interest. The new HTS categories and allocation system must be implemented as soon as possible to allow TRQ recipients to import their products under the new HTS categories and allocation system.

If the new HTS category and allocation system are not implemented immediately, TRQ recipients will be required to file amended entries with U.S. Customs and Border Protection (CBP) in order to get the duty benefit. The Act entered into force in December 20, 2006, created an annual tariff rate quota providing for temporary reductions through December 31, 2009 in the import duties of cotton woven fabrics suitable for making cotton shirts (new Harmonized Tariff Schedule of the United States (HTS) headings 9902.52.08, 9902.52.09, 9902.52.10, 9902.52.11, 9902.52.12, 9902.52.13, 9902.52.14, 9902.52.15, 9902.52.16, 9902.52.17, 9902.52.18, and 9902.52.19). The reduction in duty is limited to 85 percent of the total square meter equivalents of all imported woven fabrics of cotton containing 85 percent or more by weight cotton used by manufacturers in cutting and sewing men's and boy's cotton shirts in the United States and purchased by such manufacturer during calendar year 2000. The Act establishes that the TRQ is to be administered on a calendar year (January 1 to December 31) basis. While the Act does not specify a start date, Congress plainly intended the TRQ to be in effect in the first calendar year following the enactment, or January 1, 2007-December 31, 2007. During the calendar year of the date of application, an applicant must have cut and sewed men's and boys' cotton woven shirts in the United States. Furthermore, an applicant must have, during calendar year 2000, cut and sewed men's and boy's cotton shirts in the United States from imported woven fabrics of cotton containing 85 percent or more by weight of cotton of the kind described in HTS headings 9902.52.08 through 9902.5219 purchased by such manufacturer during calendar year 2000. The applicant may have cut or sewn these cotton shirts on its own behalf or had another person cut and sew the cotton shirts on the applicant's behalf, provided the applicant owned the fabric at the time it was cut and sewn.

Amended entries are costly and time consuming. To obtain the duty benefits under a TRQ from a license issued after cotton fabric has cleared CBP, a Licensee would need to request its brokers and other suppliers to file amended entries on its behalf with CBP in order to obtain the duty rebates applicable to the TRQ license. This process is time consuming and costly as additional staff would need to be hired and extra hours devoted to research and file amended entries. Brokers would need to research thousand of shipments, imported into several different ports, in order to file amended entries. Brokers and other suppliers do not always have the resources and personnel in order to investigate individual shipments for individual companies to file entries retroactively. The average cost charged by brokers and suppliers for researching shipments range from $100 to $200 to file amended entries, which would in effect nullify the duty benefit for small shipments which may make up the bulk of the entries for licensees.

For the same reasons above, there is good cause to find under 5 U.S.C. 553(d)(3) to waive the 30-day delay in effectiveness. As stated above, the process of researching shipments to file amended entries is time consuming and costly. If this regulation is not implemented immediately, the costs incurred by TRQ recipients would in effect nullify any duty benefits, particularly for those TRQ recipients who have small shipments.

While these regulations will be effective upon publication, the Department of Commerce hereby solicits comments on these interim regulations and will amend them in final regulations if appropriate. The Department is particularly interested in comments concerning any impact these regulations might have on small-or-medium sized businesses.

Paperwork Reduction Act: This interim rule contains information collection requirements subject to the Paperwork Reduction Act (PRA). This information collection requirements have been approved by Office of Management and Budget (OMB) under an emergency request under Control Number 0625-0260. A request for permanent approval is pending. When the approval is provided, notice will be published in the Federal Register.

Notwithstanding any other provision of law, no person is required to respond to, nor shall any person be subject to a penalty for failure to comply with, a collection of information subject to the requirements of the PRA unless that collection of information displays a current valid OMB control number. The information collected will be used by the Department to allocate the tariff rate quota among manufacturers. Responses to the collection of information are required for a manufacturer to receive allocation of the tariff rate quota. Records substantiating information provided in an application must be retained. It is estimated that the annual burden for the collection will average one hour per application. This includes the time for reviewing instructions, searching existing data sources, gathering and maintaining the data needed, and completing and reviewing the collection of information. Send comments regarding this burden estimate or any other aspect of this collection of information, including suggestions for reducing this burden, to the Office of Management and Budget, Washington, DC 20503 (Attention: ITA Desk Officer).

Dated: July 18, 2007.
Joseph A. Spetrini,
Deputy Assistant Secretary for Import Administration.

List of Subjects

15 CFR Part 336

Imports, Quotas, Reporting and Recordkeeping, Tariffs, Textiles.

For reasons stated in the preamble, Part 336 is added to title 15 of the Code of Federal Regulations to read as follows:

PART 336—IMPORTS OF COTTON WOVEN FABRIC

Sec.
§336.1 Purpose.
§336.2 Definitions.
§336.3 Eligibility Criteria and Application Requirements to receive allocation.
§336.4 Allocation.
§336.5 Licenses.

Authority: Section 406 Public Law 109-434. Tax Relief and Health Care Act of 2006. December 9, 2006.

§336.1 Purpose.

This part sets forth regulations regarding the issuance and effect of licenses for allocation of Cotton Woven Fabric under the Tariff Rate Quota established by Section 406 of the Act.

§336.2 Definitions.

For purposes of these regulations:

Act means the Tax Relief and Health Care Act of 2006 (Public Law 109-434).

Cotton Shirts means men's and boys' cotton shirts made from woven fabric containing 85 percent or more by weight of cotton.

Cotton Woven Fabric means woven fabrics of cotton containing 85 percent or more by weight of cotton.

Department means the United Sates Department of Commerce.

HTS means the Harmonized Tariff Schedule of the United States.

Imports subject to Tariff Rate Quota are defined by date of presentation as defined in 19 CFR 132.1(d) and 19 CFR 132.11(a).

Licensee means applicant for an allocation of the Tariff Rate Quota that receives an allocation and a license.

Manufacturer means a person or entity that cuts and sews men's and boys' cotton woven shirts in the United States.

Tariff Rate Quota or Quotas means the temporary duty reduction provided under Section 406 of the Act for limited quantities of cotton woven fabrics entered under HTS headings 9902.52.08 through 9902.52.19 suitable for use in making men's and boys' cotton woven shirts.

Tariff Rate Quota Year means a calendar year for which the Tariff Rate Quotas are in effect.

§336.3 Eligibility Criteria and Application Requirements to receive allocation.

(a) In each year prior to the Tariff Rate Quota Year, the Department will cause to be published a Federal Register notice soliciting applications to receive an allocation of the Tariff Rate Quotas.

(b) An application for a Tariff Rate Quota must be received, or postmarked by the U.S. Postal Service, within 30 calendar days after the date of publication of the Federal Register notice soliciting applications.

(c) Eligibility

The TRQ is available to manufacturers that during the calendar year of the date of application, have cut and sewed men's and boys' cotton woven shirts in the United States. Furthermore, an applicant must have, during calendar year 2000, cut and sewed men's and boy's cotton shirts in the United States from imported woven fabrics of cotton containing 85 percent or more by weight of cotton of the kind described in HTS headings 9902.52.08 through 9902.5219 purchased by such manufacturer during calendar year 2000. The applicant may have cut or sewn these cotton shirts on its own behalf or had another person cut and sew the cotton shirts on the applicant's behalf, provided the applicant owned the fabric at the time it was cut and sewn. Any manufacturer who becomes a successor-of-interest to a manufacturer of the cotton shirts described in HTS headings 9902.52.08 through 9902.52.19 during 2000 because of a reorganization or otherwise, shall be eligible to apply for a TRQ.

(d) Application Requirements:

To receive consideration for a TRQ, an applicant must submit ITA Form ITA-4156P providing the following information:

(1) Identification: Company name, address, contact telephone number, e-mail address, federal tax identification number, name of person submitting the application, and title, or capacity in which the person is acting for the applicant.

(2) Manufacturing Facilities: The name and address of each plant or location in the United States where men's and boy's cotton shirts of imported woven fabric of the kind described in HTS headings 9902.52.08 through 9902.52.19 was cut and sewn in calendar year 2000.

(3) Date of purchase: The date of purchase shall be (a) the invoice date if the manufacturer is not the importer of record; and (b) the date of entry if the manufacturer is the importer of record.

(4) Quantity of fabric: The quantity of imported woven fabrics of cotton containing 85 percent or more by weight of cotton purchased during calendar year 2000 for use in the cutting and sewing of men's and boys' shirts in the United States.

(5) Affidavit: At the conclusion of the application an officer of the manufacturer must certify that the manufacturer is eligible to receive a license and stating the quantity of imported woven fabrics of cotton containing 85 percent or more by weight of cotton purchased during calendar year 2000 for use in the cutting and sewing of men's and boys' shirts in the United States and attest that all information contained in the application is complete and correct and no false claims, statements or representations have been made. Applicants should be aware that, generally, pursuant to 31 U.S.C. 3729 persons providing false or fraudulent claims, and pursuant to 18 U.S.C. 101, persons making materially false statement to representations, are subject to civil or criminal penalties, respectively.

(6) Notarization. All application must be notarized by a licensed public notary.

(e) Confidentiality. Any business confidential information provided pursuant to this section that is marked “business confidential” will be kept confidential and protected from disclosure to the full extent permitted by law.

(f) Record Retention: The applicant shall retain records substantiating the information provided in §336.3(d)(2), and (3), and (4) for a period of 3 years and the records must be made available upon request by an appropriate government official.

§336.4 Allocation.

(a) The Tariff Rate Quota licenses will be issued to eligible manufacturers on the basis of the percentage of each manufacturer's quantity of imported woven fabrics described under HTS headings 9902.52.08 through 9902.52.19 during calendar year 2000, compared to the imports of such fabric by all manufacturers that qualify for a Tariff Rate Quota license.

(b) The Department will cause to be published in the Federal Register its determination to allocate Tariff Rate Quotas and issue licenses to manufacturers within 60 days after the manufacturers file an application with the Department.

§336.5 Licenses.

(a) Each Licensee will receive a license, which will include a unique control number.

(b) A license may be exercised only for fabric entered for consumption, or withdrawn from warehouse for consumption, during the Tariff Rate Quota Year specified in the license. A licensee will be debited on the basis of date of entry for consumption or withdrawal from warehouse for consumption.

(c) A Licensee may import fabric certified by the importer as suitable for use in making men's and boys' cotton shirts under the Tariff Rate Quota as specified in the license up to the quantity specified in the license subject to the Tariff Rate Quota duty rate. Only a Licensee or an importer authorized by a Licensee will be permitted to import fabric under the Tariff Rate Quota and to receive the Tariff Rate Quota duty rate.

(d) The term of the license shall be the Tariff Rate Quota Year for which it is issued. Fabric may be entered or withdrawn from warehouse for consumption under a license only during the term of that license. The license cannot be used for fabric entered or withdrawn from warehouse for consumption after December 31 of the year of the term of the license.

(e) The importer of fabric entered or withdrawn from warehouse for consumption under a license must be the Licensee or an importer authorized by the licensee to act on its behalf. If the importer of record is the Licensee, the importer must possess the license at the time of filing the entry summary or warehouse withdrawal for consumption (Customs Form 7501).

(f) A Licensee may only authorize an importer to import fabric under the license on its behalf by making such an authorization in writing or by electronic notice to the importer and providing a copy of such authorization to the Department. A Licensee may only withdraw authorization from an importer by notifying the importer, in writing or by electronic notice, and providing a copy to the Department.

(g) The written authorization must include a unique number of the license, must specifically cover the type of fabric imported, and must be in possession of the importer at the time of filing the entry summary or warehouse withdrawal for consumption (Customs Form 7501), or its electronic equivalent, in order for the importer to obtain the applicable Tariff Rate Quota duty rate. The authorization also must include the unique PIN assigned by the licensee to the importer. A copy of the authorization and PIN assigned to each importer must be provided to the Department by fax (202) 482-0667 or by mail to the Office of Textiles and Apparel, Room 3001, United States Department of Commerce, Washington, D.C. 20230 . The licensee also must advise the Department of each authorized importer's Importer of Record Identification Number.

(h) It is the responsibility of the Licensee to safeguard the use of the license issued. The Department and U.S. Customs and Border Protection will not be liable for any improper use of the license.

(i) The licensee should inform its authorized importers that if they enter an amount less than the exact amount requested and authorized by the Import Approval, the importer must annotate the Import Approval form and send a copy to the Department and to the licensee. This annotation will be used to correct the record of use of the license. Failure to provide such information could disrupt the orderly use of the license. Imports in excess of amount of import approval are not authorized.

[FR Doc. E7-14321 Filed 7-23-07; 8:45 am]

BILLING CODE 3510-DS-S